DEPARTMENT OF ENERGY

Fusion Energy Sciences Advisory Committee

AGENCY: Department of Energy, Office of Science.

ACTION: Notice of open meeting.

SUMMARY: This notice announces a meeting of the Fusion Energy Sciences Advisory Committee. The Federal Advisory Committee Act (Pub. L. 92-463, 86 Stat. 770) requires that public notice of these meetings be announced in the Federal Register.

DATES: Monday, August 4, 2008, 8:30 a.m. to 6:30 p.m. and Tuesday, August 5, 2008, 8:30 a.m. to noon.

ADDRESSES: The Gaithersburg Hilton, 620 Perry Parkway, Gaithersburg, Maryland, 20877.

FOR FURTHER INFORMATION CONTACT: Albert L. Opdenaker, Office of Fusion Energy Sciences, U.S. Department of Energy, 1000 Independence Avenue, SW., Washington, DC 20585-1290; Telephone: 301-903-4927.

SUPPLEMENTARY INFORMATION: Purpose of the Meeting: The Office of Fusion Energy Sciences (OFES) is developing a new strategic plan for the Fusion Energy Sciences (FES) program. The Fusion Energy Sciences Advisory Committee (FESAC) recently completed its report on scientific themes and issues facing the magnetic fusion portion of the FES program. At this meeting, FESAC will hear a status report from each of its two current panels, one that is identifying the scientific themes and issues facing the four major alternate confinement concepts, and the other identifying the scientific themes and issues facing the high energy density laboratory plasmas program. Once these panels complete their work, their output along with the previous FESAC report on the themes and issues facing the magnetic fusion program will inform the efforts of OFES to produce a new strategic plan. In addition, the committee will hear a scientific paper, the topic of which has yet to be determined.

Tentative Agenda

Monday, August 4, 2008

• OFES: Plan for developing a new strategic plan for FES

• ITER Project Status

• Status Report: Panel on High Energy Density Laboratory Plasmas

• Status Report: Panel on Alternate Confinement Concepts

• Public Comments

Tuesday, August 5, 2008

• Scientific Paper: TBD

• Discussion of Strategic Plan Development

• Adjourn

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). Reasonable provision will be made to include the scheduled oral statements on the agenda. The Chairperson of the Committee will conduct the meeting to facilitate the orderly conduct of business. Public comment will follow the 10-minute rule.

Minutes: The minutes of the meeting will be available on the U.S. Department of Energy's Office of Fusion Energy Sciences Web site (http://www.science.doe.gov/ofes/).

Issued at Washington, DC, on June 20, 2008.
Rachel Samuel,
Deputy Committee Management Officer.

[FR Doc. E8-14337 Filed 6-24-08; 8:45 am]

BILLING CODE 6450-01-P